DEPARTMENT OF ENERGY

Federal Energy Regulatory Commission

Combined Notice of Filings #1

Take notice that the Commission received the following exempt wholesale generator filings:

Docket Numbers: EG25-518-000.

Applicants: Milano Solar, LLC.

Description: Milano Solar, LLC submits Notice of Self-Certification of Exempt Wholesale Generator Status.

Filed Date: 9/5/25.

Accession Number: 20250905-5167.

Comment Date: 5 p.m. ET 9/26/25.

Take notice that the Commission received the following electric rate filings:

Docket Numbers: ER24-2018-002.

Applicants: Louisville Gas and Electric Company, Kentucky Utilities Company.

Description: Compliance filing: Louisville Gas and Electric Company submits tariff filing per 35: FERC Order No. 2023 Third Compliance Filing to be effective 8/1/2024.

Filed Date: 9/8/25.

Accession Number: 20250908-5066.

Comment Date: 5 p.m. ET 9/29/25.

Docket Numbers: ER25-3367-000.

Applicants: Cordelio Services LLC, Firebrick Wind LLC.

Description: Request for Limited Waiver and Request for Shortened Comment Period and Expedited Consideration of Firebrick Wind LLC.

Filed Date: 9/4/25.

Accession Number: 20250904-5111.

Comment Date: 5 p.m. ET 9/25/25.

Docket Numbers: ER25-3378-000.

Applicants: New York State Electric & Gas Corporation, New York Independent System Operator, Inc.

Description: § 205(d) Rate Filing: New York Independent System Operator, Inc. submits tariff filing per 35.13(a)(2)(iii: NYISO-NYSEG Joint 205: Standard IA Moraine Solar Energy Center SA2910 (CEII) to be effective 8/22/2025.

Filed Date: 9/8/25.

Accession Number: 20250908-5022.

Comment Date: 5 p.m. ET 9/29/25.

Docket Numbers: ER25-3379-000.

Applicants: PJM Interconnection, L.L.C.

Description: Tariff Amendment: Notice of Cancellation of ISA No. 7110 & ICSA No. 7111; Queue No. AE2-271 to be effective 11/8/2025.

Filed Date: 9/8/25.

Accession Number: 20250908-5031.

Comment Date: 5 p.m. ET 9/29/25.

Docket Numbers: ER25-3380-000.

Applicants: Louisville Gas and Electric Company.

Description: § 205(d) Rate Filing: IBVEnergy Cost Reimbursement Agreement FERC No. 530 to be effective 11/7/2025.

Filed Date: 9/8/25.

Accession Number: 20250908-5072.

Comment Date: 5 p.m. ET 9/29/25.

Docket Numbers: ER25-3381-000.

Applicants: PPA Grand Johanna LLC.

Description: Tariff Amendment: PPA Grand Johanna LLC Notice of Cancellation of MBR Tariff to be effective 9/9/2025.

Filed Date: 9/8/25.

Accession Number: 20250908-5073.

Comment Date: 5 p.m. ET 9/29/25.

Docket Numbers: ER25-3382-000.

Applicants: Midcontinent Independent System Operator, Inc.

Description: § 205(d) Rate Filing: 2025-09-08_SA 3084 Termination of St. Joseph Phase II-NIPSCO 2nd Rev GIA (J351) to be effective 9/4/2025.

Filed Date: 9/8/25.

Accession Number: 20250908-5074.

Comment Date: 5 p.m. ET 9/29/25.

Docket Numbers: ER25-3383-000.

Applicants: Kentucky Utilities Company.

Description: § 205(d) Rate Filing: KU Concurrance IBVEnergy Cost Reimbursement FERC No. 530 to be effective 11/7/2025.

Filed Date: 9/8/25.

Accession Number: 20250908-5076.

Comment Date: 5 p.m. ET 9/29/25.

Docket Numbers: ER25-3384-000.

Applicants: Louisville Gas and Electric Company.

Description: § 205(d) Rate Filing: KYMEA Cost Reimbursement Agreement FERC Rate No. 531 to be effective 11/7/2025.

Filed Date: 9/8/25.

Accession Number: 20250908-5079.

Comment Date: 5 p.m. ET 9/29/25.

Docket Numbers: ER25-3385-000.

Applicants: Kentucky Utilities Company.

Description: § 205(d) Rate Filing: KU Concurrance KYMEA Cost Reimbursement Agreement FERC Rate No. 531 to be effective 11/7/2025.

Filed Date: 9/8/25.

Accession Number: 20250908-5083.

Comment Date: 5 p.m. ET 9/29/25.

Docket Numbers: ER25-3386-000.

Applicants: Louisville Gas and Electric Company.

Description: § 205(d) Rate Filing: LGEKU Cost Reimbursement Agreement FERC Rate Schedule No. 532 to be effective 11/7/2025.

Filed Date: 9/8/25.

Accession Number: 20250908-5086.

Comment Date: 5 p.m. ET 9/29/25.

Docket Numbers: ER25-3387-000.

Applicants: Kentucky Utilities Company.

Description: § 205(d) Rate Filing: KU Concurrance LGEKU CRA FERC No. 532 to be effective 11/7/2025.

Filed Date: 9/8/25.

Accession Number: 20250908-5092.

Comment Date: 5 p.m. ET 9/29/25.

Docket Numbers: ER25-3388-000.

Applicants: Arizona Public Service Company.

Description: § 205(d) Rate Filing: OATT Revisions—Section 7 & Attachment I to be effective 11/8/2025.

Filed Date: 9/8/25.

Accession Number: 20250908-5128.

Comment Date: 5 p.m. ET 9/29/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: September 8, 2025.
Carlos D. Clay,
Deputy Secretary.

[FR Doc. 2025-17522 Filed 9-10-25; 8:45 am]

BILLING CODE 6717-01-P